DEPARTMENT OF TRANSPORTATION

Federal Aviation Administration

14 CFR Part 39

[Docket No. FAA-2007-28258; Directorate Identifier 2006-NM-251-AD; Amendment 39-15181; AD 2007-18-01]

RIN 2120-AA64

Airworthiness Directives; Airbus Model A330 and A340 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During a BCM (back-up control module) retrofit campaign, one resistor manufactured by SRT (Siegert) was found with an abnormal resistance drift. * * *

* * * * *

When the aircraft is in control back-up configuration (considered to be an extremely remote case), an incorrect value on these resistors may cause degradation of the BCM piloting laws, potentially leading to erratic motion of the rudder and to possible impact on the Dutch Roll [uncommanded coupling of airplane roll and yaw motions].

* * * * *

The unsafe condition is erratic motion of the rudder, which could result in reduced controllability of the airplane due to dutch roll characteristics. We are issuing this AD to require actions to correct the unsafe condition on these products.

DATES: This AD becomes effective October 2, 2007.

The Director of the Federal Register approved the incorporation by reference of certain publications listed in this AD as of October 2, 2007.

ADDRESSES: You may examine the AD docket on the Internet at http://dms.dot.gov or in person at the U.S. Department of Transportation, Docket Operations, M-30, West Building Ground Floor, Room W12-140, 1200 New Jersey Avenue, SE., Washington, DC.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION:

Discussion

We issued a notice of proposed rulemaking (NPRM) to amend 14 CFR part 39 to include an AD that would apply to the specified products. That NPRM was published in the Federal Register on May 24, 2007 (72 FR 29082). That NPRM proposed to correct an unsafe condition for the specified products. The MCAI states:

During a BCM (back-up control module) retrofit campaign, one resistor manufactured by SRT (Siegert) was found with an abnormal resistance drift. This resistor was subject to humidity absorption and then to oxidation, which leads to increased resistor value.

This oxidation has been determined as coming from a production quality issue.

When the aircraft is in control back up configuration (considered to be an extremely remote case), an incorrect value on these resistors may cause degradation of the BCM piloting laws, potentially leading to erratic motion of the rudder and to possible impact on the Dutch Roll [uncommanded coupling of airplane roll and yaw motions].

In order to detect a degradation of the BCM piloting laws due to resistor oxidation, this Airworthiness Directive (AD) mandates a repetitive ground operational test of the BCM fitted with resistor manufactured by SRT until accomplishment of terminating action (installation of BCM fitted with resistors manufactured by VISHAY).

You may obtain further information by examining the MCAI in the AD docket.

Comments

We gave the public the opportunity to participate in developing this AD. We received no comments on the NPRM or on the determination of the cost to the public.

Clarification of Alternative Method of Compliance (AMOC) Paragraph

We have revised this action to clarify the appropriate procedure for notifying the principal inspector before using any approved AMOC on any airplane to which the AMOC applies.

Conclusion

We reviewed the available data and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect 20 products of U.S. registry. We also estimate that it will take about 15 work-hours per product to comply with the basic requirements of this AD. The average labor rate is $80 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $24,000 or $1,200 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://dms.dot.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-18-01 Airbus: Amendment 39-15181. Docket No. FAA-2007-28258; Directorate Identifier 2006-NM-251-AD.

Effective Date

(a) This airworthiness directive (AD) becomes effective October 2, 2007.

Affected ADs

(b) None.

Applicability

(c) This AD applies to airplanes specified in paragraphs (c)(1), (c)(2), and (c)(3) of this AD:

(1) Model A330 airplanes, certificated in any category, with Modification 49144 installed in production, but without Production Modification 55185 or Airbus Service Bulletin A330-27-3142 installed in-service.

(2) Model A340-200 and -300 series airplanes, certificated in any category, with Modification 49144 installed in production, but without Production Modification 55185 or Airbus Service Bulletin A340-27-4142 installed in-service.

(3) Model A340-500 and -600 series airplanes, certificated in any category, without Production Modification 55186 or Airbus Service Bulletin A340-27-5036 installed in-service.

Subject

(d) Air Transport Association (ATA) of America Code 27: Flight Controls.

Reason

(e) The mandatory continuing airworthiness information (MCAI) states:

During a BCM (back-up control module) retrofit campaign, one resistor manufactured by SRT (Siegert) was found with an abnormal resistance drift. This resistor was subject to humidity absorption and then to oxidation, which leads to increase the resistor value.

This oxidation has been determined coming from a production quality issue.

When the aircraft is in control back up configuration (considered to be an extremely remote case), an incorrect value on these resistors may cause degradation of the BCM piloting laws, potentially leading to erratic motion of the rudder and to possible impact on the Dutch Roll [uncommanded coupling of airplane roll and yaw motions].

In order to detect a degradation of the BCM piloting laws due to resistor oxidation, this Airworthiness Directive (AD) mandates a repetitive ground operational test of the BCM fitted with resistor manufactured by SRT until accomplishment of terminating action (installation of BCM fitted with resistors manufactured by VISHAY).

The unsafe condition is erratic motion of the rudder, which could result in reduced controllability of the airplane due to Dutch Roll characteristics.

Actions and Compliance

(f) Unless already done, do the following actions.

(1) Within 900 flight hours after the effective date of this AD, and thereafter at intervals not to exceed 900 flight hours, perform an operational test of the BCM and back-up power supply (BPS) by BITE (built in test equipment), and as applicable, apply the corrective actions, in accordance with instructions defined in Airbus Service Bulletin A330-27-3147, dated August 4, 2006; Airbus Service Bulletin A340-27-4147, dated August 4, 2006; or Airbus Service Bulletin A340-27-5038, dated August 4, 2006; as applicable. Replacement of affected BCM in accordance with Airbus Service Bulletin A330-27-3142, dated August 17, 2006; A340-27-4142, dated August 17, 2006; or A340-27-5036, dated August 17, 2006; cancels the mandatory repetitive operational test.

(2) Within 26 months after the effective date of this AD, install modified BCM in accordance with instructions given in Airbus Service Bulletin A330-27-3142, dated August 17, 2006; Airbus Service Bulletin A340-27-4142, dated August 17, 2006; or Airbus Service Bulletin A340-27-5036, dated August 17, 2006; as applicable.

FAA AD Differences

Note: This AD differs from the MCAI and/or service information as follows: No Differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tim Backman, Aerospace Engineer; International Branch, ANM-116, Transport Airplane Directorate, FAA, 1601 Lind Avenue SW., Renton, Washington 98057-3356; telephone (425) 227-2797; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2006-0313, dated October 13, 2006; and the service bulletins listed in Table 1 of this AD for related information.

Table 1.—Airbus Service Bulletins
Airbus Service Bulletin— | Dated—
A330-27-3123 | December 13, 2004.
A330-27-3142 | August 17, 2006.
A330-27-3147, including Appendix 01 | August 4, 2006.
A340-27-4124 | December 13, 2004.
A340-27-4142 | August 17, 2006.
A340-27-4147, including Appendix 01 | August 4, 2006.
A340-27-5036 | August 17, 2006.
A340-27-5038, including Appendix 01 | August 4, 2006.

Material Incorporated by Reference

(i) You must use the service information specified in Table 2 of this AD to do the actions required by this AD, unless the AD specifies otherwise.

(1) The Director of the Federal Register approved the incorporation by reference of this service information under 5 U.S.C. 552(a) and 1 CFR part 51.

(2) For service information identified in this AD, contact Airbus, 1 Rond Point Maurice Bellonte, 31707 Blagnac Cedex, France.

(3) You may review copies at the FAA, Transport Airplane Directorate, 1601 Lind Avenue SW., Renton, Washington; or at the National Archives and Records Administration (NARA). For information on the availability of this material at NARA, call (202) 741-6030, or go to: http://www.archives.gov/federal-register/cfr/ibr-locations.html.

Table 2.—Material Incorporated by Reference
Airbus Service Bulletin— | Dated—
A330-27-3123 | December 13, 2004.
A330-27-3142 | August 17, 2006.
A330-27-3147, including Appendix 01 | August 4, 2006.
A340-27-4124 | December 13, 2004.
A340-27-4142 | August 17, 2006.
A340-27-4147, including Appendix 01 | August 4, 2006.
A340-27-5036 | August 17, 2006.
A340-27-5038, including Appendix 01 | August 4, 2006.

Issued in Renton, Washington, on August 17, 2007.
Ali Bahrami,
Manager, Transport Airplane Directorate, Aircraft Certification Service.

[FR Doc. E7-16910 Filed 8-27-07; 8:45 am]

BILLING CODE 4910-13-P